DEPARTMENT OF HOMELAND SECURITY

Coast Guard

33 CFR Part 165

[Docket No. USCG-2017-0561]

Safety Zones; Cornucopia 4th of July Fireworks Display, Siskiwit Bay, Cornucopia, WI

AGENCY: Coast Guard, DHS.

ACTION: Notice of enforcement of regulation.

SUMMARY: The Coast Guard will enforce the safety zone for the Cornucopia 4th of July Fireworks Display in Cornucopia, WI from 9:30 p.m. through 11:00 p.m. on July 1, 2017. This action is necessary to protect participants and spectators during the Cornucopia 4th of July Fireworks Display. During the enforcement period, entry into, transiting, or anchoring within the safety zone is prohibited unless authorized by the Captain of the Port Duluth or her designated on-scene representative.

DATES: The regulations in 33 CFR 165.943(a)(4) and (b) will be enforced from 9:30 p.m. through 11:00 p.m. on July 1, 2017, for the Cornucopia 4th of July Fireworks Display safety zone, located in § 165.943(a)(4).

FOR FURTHER INFORMATION CONTACT: If you have questions on this document, call or email LT John Mack, Chief of Waterways Management, Coast Guard; telephone (218) 725-3818, email john.v.mack@uscg.mil.

SUPPLEMENTARY INFORMATION: The Coast Guard will enforce the safety zone for the annual Cornucopia 4th of July Fireworks Display in 33 CFR 165.943(a)(4) and (b) from 9:30 p.m. through 11:00 p.m. on July 1, 2017 on all waters of Siskiwit Bay bounded by the arc of a circle with a 420-foot radius from the fireworks launch site with it center in position 46°51′35″ N., 091°06′15″ W.

Entry into, transiting, or anchoring within the safety zone is prohibited unless authorized by the Captain of the Port Duluth or her designated on-scene representative. The Captain of the Port's designated on-scene representative may be contacted via VHF Channel 16 or via telephone at (715) 779-5100. This document is issued under authority of 33 CFR 165.943 and 5 U.S.C. 552(a). In addition to this publication in the Federal Register, the Coast Guard will provide the maritime community with advance notification of the enforcement of this safety zone via Broadcast Notice to Mariners. The Captain of the Port Duluth or her on-scene representative may be contacted via VHF Channel 16 or via telephone at (715) 779-5100.

Dated: June 22, 2017.
E.E. Williams,
Commander, U.S. Coast Guard, Captain of the Port.

[FR Doc. 2017-13563 Filed 6-30-17; 8:45 am]

BILLING CODE 9110-04-P